DEPARTMENT OF JUSTICE

[CPCLO Order No. 002-2024]

Privacy Act of 1974; Systems of Records

AGENCY: Executive Office for United States Attorneys, United States Department of Justice.

ACTION: Notice of a new system of records.

SUMMARY: Pursuant to the Privacy Act of 1974 and Office of Management and Budget (OMB) Circular No. A-108, notice is hereby given that the Executive Office for United States Attorneys (hereinafter, EOUSA) and the Office of Justice Programs (hereinafter, OJP), components within the United States Department of Justice (DOJ or Department), propose to develop a new system of records notice titled Child Pornography Victims Reserve Records, JUSTICE/USA-020. EOUSA and OJP propose to establish this system of records to administer the Child Pornography Victims Reserve, as required under The Amy, Vicky, and Andy Child Pornography Victim Assistance Act of 2018.

DATES: In accordance with 5 U.S.C. 552a(e)(4) and (11), this notice is applicable upon publication, subject to a 30-day period in which to comment on the routine uses, described below. Please submit any comments by June 20, 2024.

ADDRESSES: The public, OMB, and Congress are invited to submit any comments by mail to the United States Department of Justice, Office of Privacy and Civil Liberties, ATTN: Privacy Analyst, 2 Constitution Square, 145 N Street Northeast, Suite 8W.300, Washington, District of Columbia, 20530; by facsimile at 202-307-0693; or by email at privacy@usdoj.gov. To ensure proper handling, please reference the above CPCLO Order No. on your correspondence.

FOR FURTHER INFORMATION CONTACT: Karen Rolley, Attorney-Advisor, Executive Office for United States Attorneys, 175 N Street NE, Office of Legal Programs, Washington, DC 20530, karen.rolley@usdoj.gov, 202-252-5866.

SUPPLEMENTARY INFORMATION: Under Federal law, victims of child pornography offenses are entitled to full and timely restitution from defendants charged and convicted in Federal court, including restitution for losses caused by conduct such as the possession, receipt, viewing, transportation, and distribution of these images. Restitution is imposed upon an individual criminal defendant by a Federal court at the time of sentencing, and the obligation to pay restitution is part of the defendant's criminal sentence. The Federal Government bears the burden of proving that the defendant owes restitution to a victim, although a defendant can agree to pay restitution as part of a plea agreement.

The Amy, Vicky, and Andy Child Pornography Victim Assistance Act of 2018 (“AVAA”) created an alternative system to allow victims of trafficking in child pornography to obtain some measure of compensation (called “defined monetary assistance”) without having to prove their losses. For this purpose, the AVAA established the Child Pornography Victims Reserve (“Reserve”) to provide defined monetary assistance to eligible individuals who are depicted in child pornography that is the basis for certain convictions under 18 U.S.C. chapter 110. Under the terms of the statute, victims of these types of child pornography offenses can choose whether to present their full restitution claims in court through prosecutors, as is currently done, or to obtain a one-time payment of defined monetary assistance. The determination regarding victim eligibility for the payment is made by the court. The Act provides that the “Attorney General shall administer” this Reserve; therefore, the Department will provide payment from the Reserve to a victim pursuant to a court order issued, upon receipt of the order and the requisite information from the claimant.

In accordance with 5 U.S.C. 552a(r), the Department has provided a report to OMB and Congress on this new system of records.

Dated: May 15, 2024.
Peter Winn,
Chief Privacy and Civil Liberties Officer (Acting), United States Department of Justice.

JUSTICE/USA-020

SYSTEM NAME AND NUMBER:

Child Pornography Victims Reserve Records, JUSTICE/USA-020.

SECURITY CLASSIFICATION:

None.

SYSTEM LOCATION:

Executive Office for United States Attorneys, U.S. Department of Justice, 175 N St. NE, 4th Floor, Washington, DC 20530 and Microsoft, 1 Microsoft Way, Redmond, Washington 98052.

SYSTEM MANAGER(S):

Karen Rolley, Attorney-Advisor, Executive Office for United States Attorneys, 175 N Street NE, Office of Legal Programs, Washington, DC 20530, karen.rolley@usdoj.gov.

AUTHORITY FOR MAINTENANCE OF THE SYSTEM:

The Amy, Vicky, and Andy Child Pornography Victim Assistance Act of 2018, Pub. L. 115-299.

PURPOSE(S) OF THE SYSTEM:

These records are collected or generated for the purpose of determining qualification of and/or compensation to claimants under the Amy, Vicky, and Andy Child Pornography Victim Assistance Act of 2018.

CATEGORIES OF INDIVIDUALS COVERED BY THE SYSTEM:

Individuals who claim compensation, known as “defined monetary assistance,” under the Amy, Vicky, and Andy Child Pornography Victim Assistance Act of 2018 (hereinafter, “claimants”) and claimants' authorized representatives.

CATEGORIES OF RECORDS IN THE SYSTEM:

Records in this system include claims filed by or on behalf of claimants seeking defined monetary assistance; documents submitted in support of the claims; and other records obtained or generated to adjudicate, process, and manage the claims.

RECORD SOURCE CATEGORIES:

Information maintained in the Reserve will originate from a number of sources including, but not limited to claimants, claimants' authorized representatives, criminal and civil case files separately documented pursuant to the Privacy Act of 1974, and Federal court rules.

ROUTINE USES OF RECORDS MAINTAINED IN THE SYSTEM, INCLUDING CATEGORIES OF USERS AND THE PURPOSES OF SUCH USES:

In addition to those disclosures generally permitted under 5 U.S.C. 552a(b), all or a portion of the records or information contained in this system of records may be disclosed as a routine use pursuant to 5 U.S.C. 552a(b)(3) under the circumstances or for the purposes described below, to the extent such disclosures are compatible with the purposes for which the information was collected:

A. Where a record, either alone or in conjunction with other information, indicates a violation or potential violation of law—criminal, civil, or regulatory in nature—the relevant records may be referred to the appropriate Federal, State, local, territorial, Tribal, or foreign law enforcement authority or other appropriate entity charged with the responsibility for investigating or prosecuting such violation or charged with enforcing or implementing such law.

B. To complainants and/or victims to the extent necessary to provide such persons with information and explanations concerning the progress and/or results of the investigation or case arising from the matters of which they complained and/or of which they were a victim.

C. In an appropriate proceeding before a court, grand jury, or administrative or adjudicative body, when the Department of Justice determines that the records are arguably relevant to the proceeding; or in an appropriate proceeding before an administrative or adjudicative body when the adjudicator determines the records to be relevant to the proceeding.

D. To contractors, grantees, experts, consultants, students, and others performing or working on a contract, service, grant, cooperative agreement, or other assignment for the Federal Government, when necessary to accomplish an agency function related to this system of records.

E. To a Member of Congress or staff acting upon the Member's behalf when the Member or staff requests the information on behalf of, and at the request of, the individual who is the subject of the record.

F. To the National Archives and Records Administration for purposes of records management inspections conducted under the authority of 44 U.S.C. 2904 and 2906.

G. To appropriate agencies, entities, and persons when (1) the Department suspects or has confirmed that there has been a breach of the system of records; (2) the Department has determined that as a result of the suspected or confirmed breach there is a risk of harm to individuals, the Department (including its information systems, programs, and operations), the Federal Government, or national security; and (3) the disclosure made to such agencies, entities, and persons is reasonably necessary to assist in connection with the Department's efforts to respond to the suspected or confirmed breach or to prevent, minimize, or remedy such harm.

H. To another Federal agency or Federal entity, when the Department determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

I. To any agency, organization, or individual for the purpose of performing authorized audit or oversight operations of the Department and meeting related reporting requirements.

J. To such recipients and under such circumstances and procedures as are mandated by Federal statute or treaty.

POLICIES AND PRACTICES FOR STORAGE OF RECORDS:

Paper claims and supporting documents will be scanned and input into, the online portal and stored within the secure platform, and all paper documents will be destroyed as soon as is feasible pursuant to the applicable records retention schedules. Prior to destruction, all paper records will be stored in a locked file cabinet in a secure location. Claims received and processed through the online portal will be stored exclusively within the secure platform.

POLICIES AND PRACTICES FOR RETRIEVAL OF RECORDS:

Files and automated data are retrieved by the claim number, name of a claimant or claimant's authorized representative, or case file number.

POLICIES AND PRACTICES FOR RETENTION AND DISPOSAL OF RECORDS:

The records retention schedule covering records related to the Reserve is currently under development. Until a records retention schedule is approved by the National Archives and Records Administration, records related to the Reserve will be retained for the purpose of processing new claims that may be related to existing records. Once the records retention schedule is complete, records exceeding the approved schedule will be destroyed.

Paper claims and supporting documents will be destroyed using a secured shredding process.

Automated data is retained in its most current form only, however, and as information is updated, outdated information is deleted.

ADMINISTRATIVE, TECHNICAL, AND PHYSICAL SAFEGUARDS:

This system meets DOJ requirements for authorization to operate per DOJ Order 0904, Cybersecurity Program. Specifically, information in this system is maintained in accordance with applicable laws, rules, and policies on protecting individual privacy.

Internet connections are protected by multiple firewalls. Security personnel conduct periodic vulnerability scans using DOJ-approved software to ensure security compliance and security logs are enabled for all computers to assist in troubleshooting and forensics analysis during incident investigations. Users of individual computers can only gain access to the data by a valid user identification, password, and/or multifactor authentication.

Paper claims and supporting documents will be digitized immediately upon receipt to ensure auditability of access and use, and paper records will be destroyed as soon as is feasible pursuant to the applicable records retention schedule to prevent misuse of paper records.

RECORD ACCESS PROCEDURES:

All requests for access to records pursuant to the Privacy Act must be in writing and should be addressed to the FOIA Public Liaison, FOIA/Privacy Staff, Executive Office for United States Attorneys, U.S. Department of Justice, 175 N St. NE, Suite 5.400, Washington, DC 20530 or online at https://eousafoia.usdoj.gov/. For written requests, the envelope and letter should be clearly marked “Privacy Act Access Request.” The request must describe the records sought in sufficient detail to enable Department personnel to locate them with a reasonable amount of effort. The request must include a general description of the records sought and must include the requester's full name, current address, and date and place of birth. The request must be signed and either notarized or submitted under penalty of perjury.

Although no specific form is required, you may obtain forms for this purpose from the FOIA/Privacy Act Mail Referral Unit, United States Department of Justice, 950 Pennsylvania Avenue NW, Washington, DC 20530, or on the Department of Justice website at https://www.justice.gov/oip/oip-request.html.

More information regarding the Department's procedures for accessing records in accordance with the Privacy Act can be found at 28 CFR part 16 subpart D, “Protection of Privacy and Access to Individual Records Under the Privacy Act of 1974.”

CONTESTING RECORD PROCEDURES:

Individuals seeking to contest or amend records maintained in this system of records must direct their requests to the address indicated in the “RECORD ACCESS PROCEDURES” paragraph, above. All requests to contest or amend records must be in writing and the envelope and letter should be clearly marked “Privacy Act Amendment Request.” All requests must state clearly and concisely what record is being contested, the reasons for contesting it, and the proposed amendment to the record. Some information may be exempt from the amendment provisions as described in the “EXEMPTIONS PROMULGATED FOR THE SYSTEM” paragraph, below. An individual who is the subject of a record in this system of records may contest or, if appropriate, seek to amend those records that are not exempt. A determination of whether a record is exempt from the amendment provisions will be made after a request is received.

More information regarding the Department's procedures for amending or contesting records in accordance with the Privacy Act can be found at 28 CFR 16.46, “Requests for Amendment or Correction of Records.”

NOTIFICATION PROCEDURES:

Individuals may be notified if a record in this system of records pertains to them when the individuals request information utilizing the same procedures as those identified in the “RECORD ACCESS PROCEDURES” paragraph, above.

EXEMPTIONS PROMULGATED FOR THE SYSTEM:

None.

HISTORY:

None.

[FR Doc. 2024-11055 Filed 5-20-24; 8:45 am]

BILLING CODE 4410-07-P